SECURITIES AND EXCHANGE COMMISSION

[Release No. 34-72826; File No. SR-OPRA-2014-06]

Options Price Reporting Authority; Notice of Filing and Immediate Effectiveness of Proposed Amendment to the Plan for Reporting of Consolidated Options Last Sale Reports and Quotation Information To Amend OPRA's Fee Schedule

August 12, 2014.

Correction

In notice document 2014-19482 appearing on pages 48777-48779 in the issue of Monday, August 18, 2014, make the following correction:

On page 48779, in the first column, in the last full paragraph, in the last sentence, “September 4, 2014”, should read “September 8, 2014.”

[FR Doc. C1-2014-19482 Filed 8-21-14; 8:45 am]

BILLING CODE 1505-01-D